DEPARTMENT OF JUSTICE

Executive Office for Immigration Review; Agency Information Collection Activities: Proposed Collection; Comments Requested

ACTION: 60-day notice of information collection under review: reinstatement, without change, of a previously approved collection for which approval has expired application for suspension of deportation.

The Department of Justice (DOJ), Executive Office for Immigration Review (EOIR), has submitted the following information collection request to the Office of Management and Budget (OMB) for review and approval in accordance with the Paperwork Reduction Act of 1995. The proposed information collection is published to obtain comments from the public and affected agencies. Comments are encouraged and will be accepted for “sixty days” until December 3, 2002.

If you have comments, especially on the estimated public burden or associated response time, suggestions, or need a copy of the proposed information collection instrument with instructions or additional information, please contact Chuck Adkins-Blanch, General Counsel, Executive Office for Immigration Review, U.S. Department of Justice, Suite 2600, 5107 Leesburg Pike, Falls Church, Virginia 22041; telephone (703) 305-0470.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g. permitting electronic submission of responses.

Overview of this information collection:

(1) Type of information collection: Reinstatement, without change, of a previously approved collection for which approval has expired.

(2) Title of the form/collection: Application for Suspension of Deportation.

(3) Agency form number, if any, and the applicable component of the Department of Justice sponsoring the collection: Form Number: EOIR-40, Executive Office for Immigration Review, United States Department of Justice.

(4) Affected public who will be asked or required to respond, as well as a brief abstract: Primary: Individuals or households. Other: None. Abstract: This form is used by certain deportable aliens to apply for suspension of deportation pursuant to former section 244 of the Immigration and Nationality Act and 8 CFR 240.56 (2002).

(5) An estimate of the total number of respondents and the amount of time estimated for an average respondent to respond: 2,000 responses per year at 5 hours, 45 minutes per response.

(6) An estimate of the total public burden (in hours) associated with the collection: 11,500 hours annually.

If additional information is required contact: 11,500 hours annually.

If additional information is required contact: Mr. Robert B. Briggs, Department Clearance Officer, Information Management and Security Staff, Justice Management Division, United States Department of Justice, Patrick Henry Building, Suite 1600, 601 D Street, NW., Washington, DC 20530.

Dated: September 30, 2002.
Robert B. Briggs,
Department Clearance Officer, Department of Justice.

[FR Doc. 02-25229 Filed 10-3-02; 8:45 am]

BILLING CODE 4410-30-M